DEPARTMENT OF TRANSPORTATION

Federal Aviation Administration

14 CFR Part 39

[Docket No. FAA-2024-2026; Project Identifier AD-2024-00163-E]

RIN 2120-AA64

Airworthiness Directives; Pratt & Whitney Engines

AGENCY: Federal Aviation Administration (FAA), DOT.

ACTION: Notice of proposed rulemaking (NPRM).

SUMMARY: The FAA proposes to adopt a new airworthiness directive (AD) for certain Pratt & Whitney (PW) Model PW1519G, PW1521G, PW1521GA, PW1521G-3, PW1524G, PW1524G-3, PW1525G, PW1525G-3, PW1919G, PW1921G, PW1922G, PW1923G, and PW1923G-A engines with a certain high-pressure compressor (HPC) 7th-stage axial rotor installed. This proposed AD was prompted by an analysis of an event involving an International Aero Engines, LLC (IAE LLC) Model PW1127GA-JM engine, which experienced an HPC 7th-stage integrally bladed rotor (IBR-7) separation that resulted in an aborted takeoff. This proposed AD would require performing initial and repetitive angled ultrasonic inspections (AUSI) of certain HPC 7th-stage axial rotors for cracks and replacing the HPC 7th-stage axial rotors if necessary. The FAA is proposing this AD to address the unsafe condition on these products.

DATES: The FAA must receive comments on this proposed AD by October 3, 2024.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-2026; or in person at Docket Operations between 9 a.m. and 5 p.m., Monday through Friday, except Federal holidays. The AD docket contains this NPRM, any comments received, and other information. The street address for Docket Operations is listed above.

Material Incorporated by Reference:

• For PW material identified in this proposed AD, contact Pratt & Whitney, 400 Main Street, East Hartford, CT 06118; phone: (860) 565-0140; email: help24@prattwhitney.com; website: connect.prattwhitney.com.

• You may view this material at the FAA, Airworthiness Products Section, Operational Safety Branch, 1200 District Avenue, Burlington, MA 01803. For information on the availability of this material at the FAA, call (817) 222-5110.

FOR FURTHER INFORMATION CONTACT: Carol Nguyen, Aviation Safety Engineer, FAA, 2200 South 216th Street, Des Moines, WA 98198; phone: (781) 238-7655; email: carol.nguyen@faa.gov.

SUPPLEMENTARY INFORMATION:

Comments Invited

The FAA invites you to send any written relevant data, views, or arguments about this proposal. Send your comments to an address listed under the ADDRESSES section. Include “Docket No. FAA-2024-2026; Project Identifier AD-2024-00163-E” at the beginning of your comments. The most helpful comments reference a specific portion of the proposal, explain the reason for any recommended change, and include supporting data. The FAA will consider all comments received by the closing date and may revise this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Carol Nguyen, Aviation Safety Engineer, FAA, 2200 South 216th Street, Des Moines, WA 98198. Any commentary that the FAA receives which is not specifically designated as CBI will be placed in the public docket for this rulemaking.

Background

On December 24, 2022, an Airbus Model A320neo airplane powered by IAE LLC Model PW1127GA-JM engines, experienced a failure of the HPC IBR-7 that resulted in an engine shutdown and aborted take-off. Following this event, the manufacturer conducted a records review of production and field-returned parts and re-evaluated their engineering analysis methodology. The new analysis found that the failure of the HPC IBR-7 was caused by a nickel powdered metal anomaly, similar in nature to an anomaly previously observed, and these parts are susceptible to failure much earlier than previously determined. As a result, the FAA issued multiple ADs requiring AUSIs for certain affected parts, however the overall mitigation plan included several actions that were not available when those ADs were published. Since that time, PW has developed the AUSI for the HPC 7th-stage axial rotors. This condition, if not addressed, could result in uncontained HPC 7th-stage axial rotor failure, release of high-energy debris, damage to the engine, damage to the airplane, and possible loss of the airplane.

FAA's Determination

The FAA is issuing this NPRM after determining that the unsafe condition described previously is likely to exist or develop on other products of the same type design.

Material Incorporated by Reference Under 1 CFR Part 51

The FAA reviewed the following material:

• PW Alert Service Bulletin (ASB) PW1000G-A-72-00-0157-00A-930A-D, Issue No: 002, dated May 22, 2024; and PW ASB PW1000G-A-72-00-0210-00A-930A-D, Issue No: 002, dated May 22, 2024; which specify procedures for performing initial AUSIs on affected HPC 7th-stage axial rotors. This material also includes the serial numbers of affected HPC 7th-stage axial rotors. This material is distinct because it applies to different engine models in different configurations.

• PW ASB PW1000G-A-72-00-0158-00B-930A-D, Issue No: 002, dated August 1, 2024; and PW ASB PW1000G-A-72-00-0211-00A-930A-D, Issue No: 002, dated August 1, 2024; which specify procedures for performing repetitive AUSIs on affected HPC 7th-stage axial rotors. This material is distinct because it applies to different engine models in different configurations.

This material is reasonably available because the interested parties have access to it through their normal course of business or by the means identified in ADDRESSES.

Proposed AD Requirements in This NPRM

This proposed AD would require performing initial and repetitive AUSIs of certain HPC 7th-stage axial rotors for cracks and replacement if necessary.

Interim Action

The FAA considers this AD to be an interim action. This unsafe condition is still under investigation by the manufacturer and, depending on the results of that investigation, the FAA may consider further rulemaking action.

Costs of Compliance

The FAA estimates that this AD, if adopted as proposed, would affect 121 engines installed on airplanes of U.S. registry.

The FAA estimates the following costs to comply with this proposed AD:

Estimated Costs
Action | Labor cost | Parts cost | Cost per product | Cost on U.S. operators
AUSI of HPC 7th-stage axial rotor | 20 work-hours × $85 per hour = $1,700 | $0 | $1,700 | $205,700

The FAA estimates the following costs to do any necessary replacements that would be required based on the results of the proposed inspection. The agency has no way of determining the number of engines that might need these replacements:

On-Condition Costs
Action | Labor cost | Parts cost | Cost per product
Replacement of HPC 7th-stage axial rotor | 1 work-hours × $85 per hour = $85 | $84,640 | $84,725

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Pratt & Whitney: Docket No. FAA-2024-2026; Project Identifier AD-2024-00163-E.

(a) Comments Due Date

The FAA must receive comments on this airworthiness directive (AD) by October 3, 2024.

(b) Affected ADs

None.

(c) Applicability

This AD applies to Pratt & Whitney (PW) Model PW1519G, PW1521G, PW1521GA, PW1521G-3, PW1524G, PW1524G-3, PW1525G, PW1525G-3, PW1919G, PW1921G, PW1922G, PW1923G, and PW1923G-A engines with an installed high-pressure compressor (HPC) 7th-stage axial rotor having part number (P/N) 30G5307.

(d) Subject

Joint Aircraft System Component (JASC) Code 7230, Turbine Engine Compressor Section.

(e) Unsafe Condition

This AD was prompted by an analysis of an event involving an International Aero Engines, LLC Model PW1127GA-JM engine, which experienced an HPC 7th-stage integrally bladed rotor separation that resulted in an aborted takeoff. The FAA is issuing this AD to prevent failure of the HPC 7th-stage axial rotor. The unsafe condition, if not addressed, could result in uncontained HPC 7th-stage axial rotor failure, release of high-energy debris, damage to the engine, damage to the airplane, and possible loss of the airplane.

(f) Compliance

Comply with this AD within the compliance times specified, unless already done.

(g) Required Actions

(1) At the next piece-part exposure after the effective date of this AD and thereafter at each piece-part exposure, except as required by paragraph (g)(2) and (4) of this AD, perform an angled ultrasonic inspection (AUSI) of the affected HPC 7th-stage axial rotor for cracks in accordance with paragraphs (g)(1)(i) and(ii) of this AD, as applicable.

(i) For Model PW1500G engines: Step 7 of the Accomplishment Instructions of PW Alert Service Bulletin (ASB) PW1000G-A-72-00-0210-00A-930A-D, Issue No: 002, dated May 22, 2024 (PW1000G-A-72-00-0210-00A-930A-D, Issue No: 002), or step 5.B of the Accomplishment Instructions of PW ASB PW1000G-A-72-00-0211-00A-930A-D, Issue No: 002, dated August 1, 2024.

(ii) For Model PW1900G engines: Step 7 of the Accomplishment Instructions of PW ASB PW1000G-A-72-00-0157-00A-930A-D, Issue No: 002, dated May 22, 2024 (PW1000G-A-72-00-0157-00A-930A-D, Issue No: 002), or step 5.B of the Accomplishment Instructions of PW ASB PW1000G-A-72-00-0158-00B-930A-D, Issue No: 002, dated August 1, 2024.

(2) For engines with an installed HPC 7th-stage axial rotor and a serial number listed in Table 1 of PW1000G-A-72-00-0210-00A-930A-D, Issue No: 002, or Table 1 of PW1000G-A-72-00-0157-00A-930A-D, Issue No: 002, that have not had an AUSI performed prior to the effective date of this AD, at the next HPC engine shop visit after the effective date of this AD, not to exceed 10,000 part cycles since new, or within 100 flight cycles (FCs) after the effective date of this AD, whichever occurs later, and thereafter at each piece-part exposure: perform an AUSI of the HPC 7th-stage axial rotor for cracks in accordance with paragraphs (g)(1)(i) and (ii) of this AD, as applicable.

(3) If any crack is found during any inspection required by paragraphs (g)(1) or (2) of this AD, before further flight, remove the HPC 7th-stage axial rotor from service and replace with a part eligible for installation.

(4) If an HPC 7th-stage axial rotor has accumulated 100 FCs or less since the last AUSI, reinspection is not required provided that the part was not damaged during removal from the engine.

(h) Definitions

For the purposes of this AD:

(1) “Model PW1500G” engines are PW Model PW1519G, PW1521G, PW1521GA, PW1521G-3, PW1524G, PW1524G-3, PW1525G, and PW1525G-3 engines.

(2) “Model PW1900G” engines are PW Model PW1919G, PW1921G, PW1922G, PW1923G, and PW1923G-A engines.

(3) A “part eligible for installation” is any of the following:

(i) An HPC 7th-stage axial rotor, P/N 30G5307, that has passed the AUSI required by paragraphs (g)(1) or (g)(2) of this AD.

(ii) An HPC 7th-stage axial rotor, P/N 30G5307, that has a Certificate of Conformance that shows compliance with NDIP-1281.

(iii) An HPC 7th-stage axial rotor that has a later approved P/N.

(4) A “piece-part exposure” is when the HPC 7th-stage axial rotor is disassembled from the rotor assembly.

(5) An “HPC engine shop visit” is when the HPC rotor assembly is removed from the HPC module.

(i) Credit for Previous Actions

This paragraph provides credit for the initial AUSI required by paragraphs (g)(1) and (2) of this AD, if those actions were done before the effective date of this AD using any of the following:

(1) PW ASB PW1000G-A-72-00-0157-00A-930A-D, Issue No: 001, dated February 15, 2024.

(2) PW ASB PW1000G-A-72-00-0158-00B-930A-D, Issue No: 001, dated February 19, 2024.

(3) PW ASB PW1000G-A-72-00-0210-00A-930A-D, Issue No: 001, dated February 15, 2024.

(4) PW ASB PW1000G-A-72-00-0211-00A-930A-D, Issue No: 001, dated February 19, 2024.

(j) Alternative Methods of Compliance (AMOCs)

(1) The Manager, AIR-520 Continued Operational Safety Branch, FAA, has the authority to approve AMOCs for this AD, if requested using the procedures found in 14 CFR 39.19. In accordance with 14 CFR 39.19, send your request to your principal inspector or local Flight Standards District Office, as appropriate. If sending information directly to the manager of AIR-520 Continued Operational Safety Branch, send it to the attention of the person identified in paragraph (k) of this AD and email to: AMOC@faa.gov.

(2) Before using any approved AMOC, notify your appropriate principal inspector, or lacking a principal inspector, the manager of the local flight standards district office/certificate holding district office.

(k) Additional Information

For more information about this AD, contact Carol Nguyen, Aviation Safety Engineer, FAA, 2200 South 216th Street, Des Moines, WA 98198; phone: (781) 238-7655; email: carol.nguyen@faa.gov.

(l) Material Incorporated by Reference

(1) The Director of the Federal Register approved the incorporation by reference (IBR) of the material listed in this paragraph under 5 U.S.C. 552(a) and 1 CFR part 51.

(2) You must use this material as applicable to do the actions required by this AD, unless the AD specifies otherwise.

(i) Pratt & Whitney (PW) Alert Service Bulletin (ASB) PW1000G-A-72-00-0157-00A-930A-D, Issue No: 002, dated May 22, 2024.

(ii) PW ASB PW1000G-A-72-00-0158-00B-930A-D, Issue No: 002, dated August 1, 2024.

(iii) PW ASB PW1000G-A-72-00-0210-00A-930A-D, Issue No: 002, dated May 22, 2024.

(iv) PW ASB PW1000G-A-72-00-0211-00A-930A-D, Issue No: 002, dated August 1, 2024.

(3) For PW material identified in this AD, contact Pratt & Whitney, 400 Main Street, East Hartford, CT 06118; phone: (860) 565-0140; email: help24@prattwhitney.com; website: connect.prattwhitney.com.

(4) You may view this material at the FAA, Airworthiness Products Section, Operational Safety Branch, 1200 District Avenue, Burlington, MA 01803. For information on the availability of this material at the FAA, call (817) 222-5110.

(5) You may view this material at the National Archives and Records Administration (NARA). For information on the availability of this material at NARA, visit www.archives.gov/federal-register/cfr/ibr-locations or email fr.inspection@nara.gov.

Issued on August 12, 2024.
Peter A. White,
Deputy Director, Integrated Certificate Management Division, Aircraft Certification Service.

[FR Doc. 2024-18354 Filed 8-16-24; 8:45 am]

BILLING CODE 4910-13-P